NUCLEAR REGULATORY COMMISSION

[Docket Nos. 50-336 and 50-423]

Dominion Nuclear Connecticut, Inc., Millstone Power Station, Units 2 and 3; Notice of Availability of the Draft Supplement 22 to the Generic Environmental Impact Statement and Public Meeting for the License Renewal of Millstone Power Station, Units 2 and 3

Notice is hereby given that the U.S. Nuclear Regulatory Commission (NRC, the Commission) has published a draft plant-specific supplement to the Generic Environmental Impact Statement (GEIS), NUREG-1437, regarding the renewal of operating licenses DPR-65 and NPF-49 for the Millstone Power Station (MPS) Units 2 and 3, for an additional 20 years of operation. MPS is located in Waterford, Connecticut, on Millstone Point between the Niantic and Thames Rivers, approximately 40 miles to the southeast of Hartford, Connecticut. Possible alternatives to the proposed action (license renewal) include no action and reasonable alternative energy sources.

The draft Supplement to the GEIS is available for public inspection in the NRC Public Document Room (PDR) located at One White Flint North, 11555 Rockville Pike, Rockville, Maryland 20852, or from the Publicly Available Records (PARS) component of NRC's Agencywide Documents Access and Management System (ADAMS). ADAMS is accessible from the NRC Web site at http://www.nrc.gov/reading-rm/adams.html. (Note: Public access to ADAMS has been temporarily suspended so that security reviews of publically available documents may be performed and potentially sensitive information removed. Please check the NRC Web site for updates on the resumption of ADAMS access.) Persons who do not have access to ADAMS, or who encounter problems in accessing the documents located in ADAMS, should contact the PDR reference staff at 1-800-397-4209, (301) 415-4737, or by e-mail to pdr@nrc.gov. In addition, the Waterford Public Library, 49 Rope Ferry Road, Waterford, Connecticut, and the Thames River Campus Library, 574 New London Turnpike, Norwich, Connecticut, have agreed to make the draft supplement to the GEIS available for public inspection.

Any interested party may submit comments on the draft supplement to the GEIS for consideration by the NRC staff. To be certain of consideration, comments on the draft supplement to the GEIS and the proposed action must be received by March 2, 2005. Comments received after the due date will be considered if it is practical to do so, but the NRC staff is able to assure consideration only for comments received on or before this date. Written comments on the draft supplement to the GEIS should be sent to: Chief, Rules and Directives Branch, Division of Administrative Services, Office of Administration, Mailstop T-6D59, U.S. Nuclear Regulatory Commission, Washington, DC 20555-0001.

Comments may be hand-delivered to the NRC at 11545 Rockville Pike, Room T-6D59, Rockville, Maryland, between 7:30 a.m. and 4:15 p.m. on Federal workdays. Electronic comments may be submitted to the NRC by e-mail at MillstoneEIS@nrc.gov. All comments received by the Commission, including those made by Federal, state, local agencies, Native American Tribes, or other interested persons, will be made available electronically at the Commission's PDR in Rockville, Maryland, and from the PARS component of ADAMS.

The NRC staff will hold a public meeting to present an overview of the draft plant-specific supplement to the GEIS and to accept public comments on the document. The public meeting will be held on January 11, 2005, at the Waterford Town Hall Auditorium, 15 Rope Ferry Road, Waterford, Connecticut. There will be two sessions to accommodate interested parties. The first session will commence at 1:30 p.m. and will continue until 4:30 p.m. The second session will commence at 7 p.m. and will continue until 10 p.m. Both meetings will be transcribed and will include: (1) A presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing, as discussed below. Persons may pre-register to attend or present oral comments at the meeting by contacting Mr. Richard L. Emch, Jr., by telephone at 1-800-368-5642, extension 1590, or by e-mail at MillstoneEIS@nrc.gov no later than January 6, 2005. Members of the public may also register to provide oral comments within 15 minutes of the start of each session. Individual, oral comments may be limited by the time available, depending on the number of persons who register. If special equipment or accommodations are needed to attend or present information at the public meeting, the need should be brought to Mr. Emch's attention no later than January 6, 2005, to provide the NRC staff adequate notice to determine whether the request can be accommodated.

For Further Information Contact: Mr. Richard L. Emch, Jr., License Renewal and Environmental Impacts Program, Division of Regulatory Improvement Programs, Office of Nuclear Reactor Regulation, U.S. Nuclear Regulatory Commission, Washington, DC 20555-0001. Mr. Emch may be contacted at the aforementioned telephone number or e-mail address.

Dated in Rockville, Maryland, this 3rd day of December, 2004.
For the Nuclear Regulatory Commission.
Pao-Tsin Kuo,
Program Director, License Renewal and Environmental Impacts Program, Division of Regulatory Improvement Programs, Office of Nuclear Reactor Regulation.

[FR Doc. 04-27007 Filed 12-8-04; 8:45 am]

BILLING CODE 7590-01-P